DEPARTMENT OF THE INTERIOR

Fish and Wildlife Service

[FWS-R5-R-2016-N134; BAC-4333-99]

Plum Tree Island National Wildlife Refuge, Poquoson, VA; Comprehensive Conservation Plan and Environmental Assessment

AGENCY: Fish and Wildlife Service, Interior.

ACTION: Notice of availability; request for comments.

SUMMARY: We, the U.S. Fish and Wildlife Service (Service), announce the availability of a draft comprehensive conservation plan (CCP) and environmental assessment (EA) for Plum Tree Island National Wildlife Refuge (NWR) for public review and comment. Plum Tree Island NWR is located in Poquoson, Virginia, and is administered by staff at Eastern Virginia Rivers NWR Complex based in Warsaw, Virginia. The draft CCP and EA describes two alternatives for managing Plum Tree Island NWR for the next 15 years. Alternative B is identified as the Service-preferred alternative. Also available for public review and comment are the draft compatibility determinations, which are included as appendix B in the draft CCP and EA.

DATES: To ensure consideration of your written comments, please send them by March 13, 2017. We will also hold public meetings. We will announce those meetings and other opportunities for public input in local news media, via our project mailing list, and on the refuge planning Web site: http://www.fws.gov/refuge/Plum_Tree_Island/what_we_do/conservation.html.

ADDRESSES: You may submit comments or requests for copies or more information by any of the following methods. You may request hard copies or a CD-ROM of the documents.

Email: EasternVirginiaRiversNWRC@fws.gov. Please include “Plum Tree Island CCP” in the subject line of the message.

U.S. Mail: Meghan Powell, Natural Resource Planner, U.S. Fish and Wildlife Service, P.O. Box 1030, Warsaw, VA 22572.

Fax: Attention: Meghan Powell, 804-333-3396.

In-Person Drop-off, Viewing, or Pickup: Call Meghan Powell at 804-313-7729, or Andy Hofmann, Refuge Manager, at 804-333-1470, extension 112, during regular business hours to make an appointment to view the document.

FOR FURTHER INFORMATION CONTACT: Meghan Powell, Natural Resource Planner, U.S. Fish and Wildlife Service; mailing address: 336 Wilna Road, Warsaw, VA 22572; 804-313-7729 (phone); 804-333-3396 (fax); EasternVirginiaRiversNWRC@fws.gov (email) (please put “Plum Tree Island NWR” in the subject line).

SUPPLEMENTARY INFORMATION:

Introduction

With this notice, we continue the CCP process for Plum Tree Island NWR. We published our original notice of intent to prepare a CCP in the Federal Register on January 10, 2012 (77 FR 1500).

The 3,502-acre Plum Tree Island NWR is located in the City of Poquoson, Virginia. The refuge is approximately 7 miles north of Hampton, Virginia. It was established in 1972 primarily to conserve and protect migratory birds. It is one of many important migratory bird stopover sites along the Atlantic Flyway and provides protected breeding habitat for Federal- and State-listed threatened and endangered species, as well as many neotropical migrant bird species. The refuge is comprised of a variety of wildlife habitats, including salt marsh, maritime shrubland and dune, sandy beaches and mudflats, and estuarine habitats.

Prior to refuge establishment in 1972, the U.S. Air Force used approximately 3,276 acres of the present-day refuge as a bombing and gunnery range. Known as the Plum Tree Island Range, it was actively used from 1917 until June 1971. The nature and extent of unexploded ordnance and munitions constituents occurring within and adjacent to the refuge have been characterized by the U.S. Army Corps of Engineers' (USACE) Formerly Used Defense Site Program. A remedial action plan to address human health and ecological risks of the Plum Tree Island Range is currently being developed by the USACE.

The only public use that is currently allowed on the refuge is a 30-day waterfowl hunt on the refuge's 211-acre Cow Island tract, which lies outside the former gunnery and bombing range.

Background

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management conservation, legal mandates, and our policies. In addition to outlining broad management direction on conserving wildlife and their habitats, CCPs identify wildlife-dependent recreational opportunities available to the public, including opportunities for hunting, fishing, wildlife observation and photography, and environmental education and interpretation. We will review and update the CCP at least every 15 years, in accordance with the Refuge Administration Act.

Public Outreach

In September 2012, we distributed a planning newsletter to over 410 parties on our project mailing list. The newsletter informed people about the planning process and asked recipients to contact us about issues or concerns they would like us to address. We also posted the newsletter on our Web site for people to access electronically. In addition, we notified the general public of our planning project, and our interest in hearing about issues and concerns, by publishing news releases in local newspapers. We also held an evening public scoping meeting on September 13, 2012, in Poquoson, Virginia, and an afternoon public scoping meeting on September 14, 2012, in Poquoson, Virginia. The purpose of the two meetings was to share information on the planning process and to solicit management issues and concerns. Throughout the process, refuge staff has conducted additional outreach via participation in community meetings, events, and other public forums. We have considered and evaluated all of the comments we received and addressed them in various ways in the alternatives presented in the draft CCP and EA.

CCP Alternatives We Are Considering

Several issues were raised by us, other governmental partners, and the public during the public scoping process. To address these issues, we developed and evaluated two management alternatives in the draft CCP and EA. A full description of each alternative is in the draft CCP and EA. Both alternatives include measures to continue to share staff across the Eastern Virginia Rivers NWR Complex, control invasive species, protect cultural resources, distribute refuge revenue sharing payments, support research on the refuge, and participate in conservation and education partnerships.

There are other actions that differ among the alternatives. The draft CCP and EA provides a full description of both alternatives and relates each to the issues and concerns that arose during the planning process. Below, we provide summaries for the two alternatives.

Alternative A (Current Management)

This alternative is the “no action” alternative required by the National Environmental Policy Act. Alternative A defines our current management activities, including those planned, funded, or underway, and serves as the baseline against which to compare alternative B. Under alternative A, we would continue to protect the refuge's wildlife habitats by allowing natural processes to occur unimpeded. Our refuge management efforts would continue to focus on minimizing human-caused disturbance of refuge habitats and wildlife, conducting annual northeastern beach tiger beetle surveys (a federally threatened species), performing visual surveys of shoreline changes, and administering the waterfowl hunt while on the refuge. While off the refuge, our staff would continue to focus on interagency coordination to assess and evaluate hazards posed by the former bombing range. Refuge staff has also participated in community programs and events to promote understanding and appreciation for the purpose of the refuge and the mission of the Service. The refuge's limited waterfowl hunt on Cow Island would continue to be the only public use permitted on the refuge.

Alternative B (Increased Ecosystem Monitoring, Partnerships, and Public Use; Service-Preferred Alternative)

Alternative B is the Service-preferred alternative. It combines the actions we believe would best achieve the refuge's purposes, vision, and goals and respond to public issues. Under alternative B, we would continue to protect the refuge's wildlife habitats by allowing natural processes to occur unimpeded. Our refuge management efforts would continue to focus on minimizing human-caused disturbance of refuge habitats and wildlife, while working with a greater diversity of partners to conduct biological research, inventory, and monitoring efforts. We are primarily interested in learning more about the presence and sustainability of priority wildlife species through inventories and the monitoring of climate change impacts and changes in habitat conditions over the life of the plan. Collecting this information would serve as the basis for future refuge management actions in the next CCP.

Under alternative B, we would evaluate opportunities to enhance and expand the waterfowl hunt program on Cow Island, with an emphasis on increasing adult and youth participation. Alternative B would also expand wildlife-dependent recreation on Cow Island by opening one designated location to recreational and commercial wildlife observation, photography, environmental education, and interpretation of natural and cultural resources. Access by canoe and kayak would complement the City of Poquoson's Blueway Trail surrounding the refuge. In partnership with other government agencies and adjacent landowners, we would investigate the potential to establish viewing platforms on the mainland overlooking the refuge.

Next Steps

After this comment period ends, we will analyze the comments and address them in the form of a final CCP and, if appropriate, finding of no significant impact.

Public Availability of Documents

In addition to any methods in ADDRESSES, you can view or obtain documents from the agency Web site at: http://www.fws.gov/refuge/Plum_Tree_Island/what_we_do/conservation.html.

Submitting Comments

We consider comments substantive if they:

• Question, with reasonable basis, the accuracy of the information in the document.

• Question, with reasonable basis, the adequacy of the EA.

• Present reasonable alternatives other than those presented in the EA.

• Provide new or additional information relevant to the EA.

Public Availability of Comments

Before including your address, phone number, email address, or other personal identifying information in your comments, you should be aware that your entire comment—including your personal identifying information—may be made publicly available at any time. While you can ask us in your comment to withhold your personal identifying information from public review, we cannot guarantee that we will be able to do so.

Dated: November 3, 2016.
Deborah Rocque,
Acting Regional Director, Northeast Region.

[FR Doc. 2017-00314 Filed 1-11-17; 8:45 am]

BILLING CODE 4333-15-P